DEPARTMENT OF ENERGY

Federal Energy Regulatory Commission

[Project No. 2301-019]

PPL Montana; Notice of Intent To File License Application, Filing of Pre-Application Document (Pad), Issuance of Scoping Document, Solicitation of Comments on the Pad and Scoping Document, Solicitation of Study Requests, and Commencement of Proceeding

July 15, 2004.

a. Type of Filing: Notice of intent to file a license application and Pre-Filing Document (PAD) under the Commission's Integrated Licensing Process and Commencing Licensing Proceeding.

b. Project No.: 2301-019.

c. Date Filed: July 1, 2004.

d. Filed by: PPL Montana.

e. Project Name: Mystic Lake Hydroelectric Project.

f. Location: On West Rosebud Creek, in Stillwater and Carbon Counties, Montana. The project occupies about 575.6 acres of U.S. Forest Service lands within the Custer National Forest;

g. Filed Pursuant to: 18 CFR part 5 of the Commission's Regulations.

h. PPL Montana Contact: Jon Jourdonnais, PPL Montana, 45 Basin Creek Road, Butte, MT 59701; (406) 533-3443.

i. FERC Contact: Steve Hocking, Federal Energy Regulatory Commission, 888 First Street, NE., Washington, DC 20426; (202) 502-8753; steve.hocking@ferc.gov.

j. We are asking Federal, State, local, and tribal agencies with jurisdiction and/or special expertise with respect to environmental issues to cooperate with us in the preparation of an environmental document for this project. Agencies wanting cooperating agency status should follow the filing instructions described in paragraph p below.

k. With this notice, we are initiating informal consultation with: (1) the U.S. Fish and Wildlife Service and/or NOAA Fisheries under section 7 of the Endangered Species Act and the joint agency regulations thereunder at 50 CFR part 402 and (2) the State Historic Preservation Officer, as required by section 106, National Historical Preservation Act, and the implementing regulations of the Advisory Council on Historic Preservation at 36 CFR 800.2.

l. By letters dated January 14, 2004, we designated PPL Montana as the Commission's non-Federal representative for carrying out informal consultation pursuant to section 7 of the Endangered Species Act and section 106 of the National Historic Preservation Act.

m. PPL Montana filed a Pre-Application Document (PAD) including a proposed process plan and schedule with the Commission, pursuant to 18 CFR 5.6 of the Commission's regulations.

n. A copy of the PAD is available for review at the Commission in the Public Reference Room or may be viewed on the Commission's Web site http://www.ferc.gov using the “eLibrary” link. Enter the docket number, excluding the last three digits in the docket number field to access the document. For assistance, contact FERC Online Support at FERCOnlineSupport@ferc.gov or toll free at (866) 208-3676, or for TTY, (202) 502-8659. A copy is also available for inspection and reproduction at the address in paragraph h.

Register online at http://www.ferc.gov/esubscribenow.htm to be notified via e-mail of new filings and issuances related to this or other Commission projects. For assistance, contact FERC Online Support.

o. Concurrently with this notice, we are issuing Scoping Document 1 (SD1) for this project which describes the alternatives and issues to be addressed in our environmental document. A copy of SD1 is available for review at the Commission in the Public Reference Room or may be viewed on the Commission's Web site http://www.ferc.gov using the “eLibrary” link as described in item n above. SD1 will also be mailed to all entities on the Commission's mailing list for this project and will be available at the Commission's scoping meetings. Based on Commission staff's review of the proposed project at this time, we do not intend to issue a second scoping document for the Mystic Lake Project.

p. With this notice, we are soliciting comments on the PAD and SD1, as well as any study requests. All comments on the PAD and SD1, and study requests should be sent to the address above in paragraph h. In addition, all comments on the PAD and SD1, study requests, requests for cooperating agency status, and all communications to and from Commission staff related to the merits of the potential application (original and eight copies) must be filed with the Commission at the following address: The Secretary, Federal Energy Regulatory Commission, 888 First Street, NE., Washington, DC 20426. All filings with the Commission must include on the first page, the project name (Mystic Lake Hydroelectric Project) and number (P-2301-019), and bear the heading “Comments on Pre-Application Document,” “Study Requests,” “Comments on Scoping Document 1,” “Request for Cooperating Agency Status,” or “Communications to and from Commission Staff.” Any individual or entity interested in submitting study requests, commenting on the PAD or SD1, and any agency requesting cooperating status must do so by September 15, 2004.

Comments on the PAD and SD1, study requests, requests for cooperating agency status, and other permissible forms of communications with the Commission may be filed electronically via the Internet in lieu of paper. The Commission strongly encourages electronic filings. See 18 CFR 385.2001(a)(1)(iii) and the instructions on the Commission's Web site http://www.ferc.gov under the “e-filing” link.

q. At this time, the Commission intends to prepare a single Environmental Assessment for the project in accordance with the National Environmental Policy Act.

r. Scoping Meetings: Commission staff will hold two scoping meetings in the vicinity of the project as discussed below. The daytime meeting will focus on resource agency, Indian tribe, and non-governmental organization concerns, while the evening meeting is primarily for receiving input from the public. We invite all interested individuals, organizations, and agencies to attend one or both of the meetings, and to assist staff in identifying particular study needs, as well as the scope of environmental issues to be addressed in our environmental document. The times and locations of these meetings are as follows:

Daytime Scoping Meeting

When: August 11, 2004; from 8:30 to 2 p.m. (m.s.t.).

Where: The Elks Club: 114 N. Broadway, Red Lodge, Montana.

Evening Scoping Meeting

When: August 12, 2004; from 7 to 10 p.m. (m.s.t.).

Where: City of Columbus Firehall: 944 East Pike Ave, Columbus, Montana.

Site Visit

PPL Montana will conduct a site visit of the project on August 10, 2004, from 8 a.m. to 4 p.m. (m.s.t.). All participants should meet at the Mystic Lake powerhouse parking lot. We will tour the powerhouse area, tour the re-regulation dam, and view Mystic Lake and dam. Persons wishing to view Mystic Lake and dam must hike a 3-mile primitive trail from the powerhouse that gains 1,130 feet in elevation. Anyone with questions about the site visit should contact Jon Jourdonnais with PPL Montana at (406) 533-3443.

Meeting Objectives

At the scoping meetings, staff will: (1) Initiate scoping of the issues; (2) review and discuss existing conditions and resource management objectives; (3) review and discuss existing information and identify preliminary information and study needs; (4) review and discuss the process plan and schedule for pre-filing activity that incorporates the time frames provided for in part 5 of the Commission's regulations and, to the extent possible, maximizes coordination of Federal, State, and tribal permitting and certification processes; and (5) discuss the appropriateness of any Federal or State agency or Indian tribe acting as a cooperating agency for development of our environmental document.

Meeting Procedures

Scoping meetings will be recorded by a court reporter and all statements, oral and written, will become part of the Commission's official public record for this project.

Magalie R. Salas,
Secretary.

[FR Doc. E4-1630 Filed 7-21-04; 8:45 am]

BILLING CODE 6717-01-P